DEPARTMENT OF ENERGY

Federal Energy Regulatory Commission

[Docket No. RP97-255-012]

TransColorado Gas Transmission Company; Notice of Tariff Filing

September 25, 2000.

Take notice that on September 19, 2000, TransColorado Gas Transmission Company (TransColorado) tendered for filing as part of its FERC Gas Tariff, Original Volume No. 1, the following tariff sheets, with an effective date of September 16, 2000:

Twelfth Revised Sheet No. 21

Eighth Revised Sheet No. 22

TransColorado states that the filing is being made in compliance with the Commission's letter order issued March 20, 1997, in Docket No. RP97-255-000. The tendered tariff sheets revised TransColorado's Tariff to implement a new negotiated-rate firm transportation service agreements between Dominion Exploration & Production and an amendment in TransColorado's present contract with Questar Energy Trading. TransColorado requested waiver of 18 CFR 154.207 so that the tendered tariff sheets may become effective September 16, 2000.

TransColorado stated that a copy of this filing has been served upon all parties to this proceeding, TransColorado's customers, the Colorado Public Utilities Commission and New Mexico Public Utilities Commission.

Any person desiring to protest this filing should file a protest with the Federal Energy Regulatory Commission, 888 First Street, NE., Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-24990 Filed 9-28-00; 8:45 am]

BILLING CODE 6717-01-M